NATIONAL AERONAUTICS AND SPACE ADMINISTRATION

[Notice (02-142)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council (NAC).

DATES: Wednesday, December 11, 2002, 8 a.m. to 6 p.m.; and Thursday, December 12, 2002, 8 a.m. to 3 p.m.

ADDRESSES: National Aeronautics and Space Administration, Room MIC-6H46, overflow room MIC-3H46, 300 E Street, SW., Washington, DC 20546.

FOR FURTHER INFORMATION CONTACT: Ms.Kathy Dakon, Code IC, National Aeronautics and Space Administration, Washington, DC 20546, 202/358-0732.

SUPPLEMENTARY INFORMATION: The meeting will be open to the public up to the seating capacity of the room. Proceedings of the NAC will be shown live via video feed in the overflow room, MIC-3H46. The agenda for the meeting is as follows:

—International Space Station Management and Cost Evaluation(IMCE) Task Force Status Report

—Review of Aerospace Technology

—Strategic Planning and Budget/Performance Integration

—Committee Reports

—Discussion of Findings and Recommendations

It is imperative that the meeting be held on these dates to accommodate the scheduling priorities of the key participants. Visitors will be requested to sign a visitor's register.

June W. Edwards,
Advisory Committee Management Officer, National Aeronautics and Space Administration.

[FR Doc. 02-29376 Filed 11-19-02; 8:45 am]

BILLING CODE 7510-01-P